DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, on Interstate 80 (I-80) and United States Route 50 (US-50) in the Counties of Solano, Yolo, and Sacramento, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 31, 2024. If the Federal law that authorizes judicial review of a claim provides a time period of less than 150 days for filing such claim, then that shorter time period still applies.

FOR FURTHER INFORMATION CONTACT: For Caltrans: Robert Wall, Branch Chief, Caltrans North Region Office of Environmental Management, California Department of Transportation, District 3, 703 B Street, Marysville, CA 95901 Office Hours 8 a.m.-5 p.m., Pacific time, Telephone (707) 834-2471 or email Robert.Wall@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California: Caltrans, in collaboration with stakeholders, proposes to construct improvements consisting of a High Occupancy Toll (HOT) 3+ lane in each direction with direct connectors, pedestrian/bicycle facilities, park-n-ride, and Intelligent Transportation System (ITS) elements along I-80 and US-50 from Kidwell Road near the eastern Solano County boundary (near Dixon), through Yolo County to West El Camino Avenue near the I-80/Interstate 5 (I-5) interchange, and to the US-50/I-5 interchange in Sacramento County. The purpose of the project, EA 03-3H900, is to ease congestion and improve freeway operation to support reliable transport of goods and services throughout the region. The total length of the project is 20.8 miles. The actions by the Federal agencies, and the laws under which such actions were taken, are described in the Final Environmental Assessment (FEA) and the Finding of No Significant Impact (FONSI) for the project, approved on April 30, 2024, and in other documents in the project records. The FEA, FONSI, and other project records are available by contacting Caltrans at the address provided above. The FEA and FONSI can be viewed and downloaded from the project website at: https://dot.ca.gov/caltrans-near-me/district-3/d3-projects/d3-i80-corridor-improvements.

This notice applies to all Federal agency decisions as of the issuance date of this notice and all laws under which such actions were taken, including but not limited to:

1. Council on Environmental Quality Regulations

2. National Environmental Policy Act of 1969

3. Clean Air Act, 42 U.S.C. 7401-7671

4. Endangered Species Act of 1973 (ESA), 16 U.S.C. 1531-1544

5. National Historic Preservation Act of 1966 (NHPA)

6. Clean Water Act, 33 U.S.C. 1251-1387 (sections 319, 401, and 404)

7. Federal Land Policy and Management Act of 1976 (Paleontological Resources)

8. Noise Control Act of 1972

9. Safe Drinking Water Act of 1944, as amended

10. Endangered Species Act of 1973

11. Executive Order 11990, Protection of Wetlands

12. Executive Order 13112, Invasive Species

13. Executive Order 13186, Migratory Birds

14. Fish and Wildlife Coordination Act of 1934, as amended

15. Migratory Bird Treaty Act

16. Water Bank Act Wetlands Mitigation Banks, ISTEA 1991, sections 1006-1007

17. Wildflowers, Surface Transportation and Uniform Relocation Act of 1987 section 130

18. Executive Order 11988, Floodplain Management

19. Department of Transportation (DOT) Executive Order 5650.2—Floodplain Management and Protection (April 23, 1979)

20. Rivers and Harbors Appropriation Act of 1899, sections 9 and 10

21. Title VI of the Civil Rights Act of 1964, as amended

22. Executive Order 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1)

Antonio Johnson,
Director, Planning, Environment and Right of Way, Federal Highway Administration, California Division.

[FR Doc. 2024-12057 Filed 5-31-24; 8:45 am]

BILLING CODE 4910-RY-P